ENVIRONMENTAL PROTECTION AGENCY

40 CFR Part 52

[NC-106-20336(w); FRL-7588-6]

Approval and Promulgation of Implementation Plans for North Carolina: Partial Removal of Direct Final Rule

AGENCY: Environmental Protection Agency (EPA).

ACTION: Partial removal of direct final rule.

SUMMARY: Due to comments received, EPA is publishing a partial removal of the direct final approval of revisions to the North Carolina State Implementation Plan (SIP) that was published on September 17, 2003 (68 FR 54362 ). EPA stated in the direct final rule that if EPA received comments by October 17, 2003, the rule would be withdrawn and not take effect, or if comments were received on an amendment, paragraph, or section of this rule we may adopt as final those provisions of the rules that are not the subject of comments.

DATES: This rule is effective November 26, 2003.

FOR FURTHER INFORMATION CONTACT: Rosymar De La Torre Colón, Air Planning Branch, U.S. Environmental Protection Agency Region 4, 61 Forsyth Street, SW., Atlanta, Georgia 30303-8960. Phone number: 404/562-8965; E-mail: delatorre.rosymar@epa.gov.

SUPPLEMENTARY INFORMATION: On September 17, 2003 (68 FR 54406), EPA proposed to approve the following rules into the North Carolina State Implementation Plan: Sections 2D.0105, 2D.0507, 2D.0509, 2D.0515, 2D.0516, 2D.0521, 2D.0912, 2D.0927, 2D.0932, 2D.0952, 2D.0954 and 2D.0959. On the same day (68 FR 54362), EPA also published a direct final rule approving these rules into the SIP, and providing a 30-day public comment period and explained that if we received comments, we would withdraw the relevant direct final action.

We received comments, and are therefore removing the direct final approval of North Carolina's rule 2D.0952 “Petition for Alternative Controls For RACT” and 2D.0959 “Petition for Superior Alternative Controls”. We are not opening an additional comment period. At a later date, we intend to respond to comments and finalize action on this rule based on the September 17, 2003 proposal. The other rules listed above are not affected by this withdrawal and are incorporated into the SIP as of November 17, 2003.

List of Subjects in 40 CFR Part 52

Environmental protection, Air pollution control, Intergovernmental relations, Ozone, Particulate matter, Reporting and recordkeeping requirements, Volatile organic compounds.

Dated: November 10, 2003.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart II—North Carolina

2. In § 52.1770(c), table 1 is amended under subchapter 2D by revising entries for: “.0952” and “.0959” to read as follows:

§ 52.1770 Identification of plan.

* * * * *

(c) * * *

EPA Approved North Carolina Regulations
State Citation | Title/subject | State effective date | EPA approval date | Explanation
Subchapter 2D—Air Pollution Control Requirements
Section .0900—Volatile Organic Compounds
* * * * * * *
Section .0952 | Petition for Alternative Controls | 05/01/95 | 02/01/96 62 FR 3589
* * * * * * *
Section .0959 | reserved
* * * * * * *

* * * * *

[FR Doc. 03-29429 Filed 11-25-03; 8:45 am]

BILLING CODE 6560-50-P